FEDERAL COMMUNICATIONS COMMISSION

[DA 10-1032]

Consumer Advisory Committee

AGENCY: Federal Communications Commission.

ACTION: Notice.

SUMMARY: The Commission announces the next meeting date and agenda of its Consumer Advisory Committee (“Committee”). The purpose of the Committee is to make recommendations to the Commission regarding consumer issues within the jurisdiction of the Commission and to facilitate the participation of all consumers in proceedings before the Commission.

DATES: The meeting of the Committee will take place on Wednesday June 30, 2010, 9 a.m. to 4 p.m., at the Commission's Headquarters Building, Room TW-C305.

ADDRESSES: Federal Communications Commission, 445 12th Street, NW., Washington, DC 20554.

FOR FURTHER INFORMATION CONTACT: Scott Marshall, Consumer and Governmental Affairs Bureau, (202) 418-2809 (voice), (202) 418-0179 (TTY), or e-mail Scott.Marshal@fcc.gov.

SUPPLEMENTARY INFORMATION: This is a summary of the Commission's document DA 10-1032 released, June 4, 2010, announcing the agenda, date and time of the Committee's next meeting. At its June 30, 2010 meeting, the Committee is expected to consider a further recommendation regarding consumer information disclosures to be filed in CG Docket 09-158, CC Docket 98-170 and WC Docket 04-36 (In the Matter of Consumer Information and Disclosure, Truth-in-billing and Billing Format, IP-enabled Services, Notice of Inquiry). The Committee is also expected to consider recommendations regarding National Broadband Plan implementation, Universal Access and Adoption and the Universal Service Fund. The Committee may also consider reports or recommendations regarding closed captioning, video description, hearing aid compatibility, telecommunications relay services, public safety, and sections 508 and 255. The Committee will receive reports from its working groups and may also consider other matters within the jurisdiction of the Commission. A limited amount of time on the agenda will be available for oral comments from the public attending at the meeting site. Meetings are open to the public and are broadcast live with open captioning over the Internet from the FCC Live Web page at http://www.fcc.gov/live/.

The Committee is organized under, and operates in accordance with, the provisions of the Federal Advisory Committee Act, 5 U.S.C., App. 2 (1988). A notice of each meeting will be published in the Federal Register at least fifteen (15) days in advance of the meeting. Records will be maintained of each meeting and made available for public inspection. Members of the public may send written comments to: Scott Marshall, Designated Federal Officer of the Committee at scott.marshall@fcc.gov.

The meeting site is fully accessible to people using wheelchairs or other mobility aids. Sign language interpreters, open captioning, assistive listening devices, and Braille copies of the agenda and handouts will be provided on site.

Simultaneous with the Webcast, the meeting will be available through Accessible Event, a service that works with your Web browser to make presentations accessible to people with disabilities. You can listen to the audio and use a screen reader to read displayed documents. You can also watch the video with open captioning. The Web site to access Accessible Event is http://accessibleevent.com. The web page prompts for an Event Code which is, 005202376. To learn about the features of Accessible Event, consult its User's Guide at: http://accessibleevent.com/doc/user_guide/. Other reasonable accommodations for people with disabilities are available upon request. The request should include a detailed description of the accommodation needed and contact information. Please provide as much advance notice as possible; last minute requests will be accepted, but may be impossible to fill. Send an e-mail to fcc504@fcc.gov or call the Consumer and Governmental Affairs Bureau at 202-418-0530 (voice), 202-418-0432 (TTY).

Federal Communications Commission.
Mark Stone,
Deputy Bureau Chief, Consumer and Governmental Affairs Bureau.

[FR Doc. 2010-14100 Filed 6-10-10; 8:45 am]

BILLING CODE 6712-01-P